Title 3—

The President

Proclamation 9005 of August 30, 2013

National Alcohol and Drug Addiction Recovery Month, 2013

By the President of the United States of America

A Proclamation

Each day, millions of Americans take courageous steps toward recovery from alcohol and drug addiction. Their examples reveal the transformative power of recovery, and their stories provide hope to those struggling to break free from addiction. During National Alcohol and Drug Addiction Recovery Month, we celebrate their strength, challenge the stigmas that stand as barriers to recovery, and encourage those needing help to seek it.

This year's theme, “Together on Pathways to Wellness” encourages all Americans to walk alongside family, friends, and neighbors who are fighting to overcome addiction. My Administration is proud to advance evidence-based approaches to recovery—approaches that view addiction as a preventable, treatable disease of the brain. The 2013 National Drug Control Strategy builds on our work over the past 4 years, increasing access to treatment and recovery services, and supporting early intervention to address substance abuse in schools, on college campuses, and in the workplace. And to give more Americans a chance to enter recovery, the Affordable Care Act expands mental health and substance use disorder benefits and Federal parity protections for millions of Americans. Thanks to this law, insurance companies must cover treatment for substance use disorders as they would any other chronic disease.

Alcohol and drug addiction remains a serious challenge in our country, but with support from loved ones and allies, Americans seeking help make steady progress each day. As we observe National Alcohol and Drug Addiction Recovery Month, let us unite to prevent addiction, give hope to everyone still struggling with this disease, and celebrate all those moving along the life-saving path to recovery.

NOW, THEREFORE, I, BARACK OBAMA, President of the United States of America, by virtue of the authority vested in me by the Constitution and the laws of the United States, do hereby proclaim September 2013 as National Alcohol and Drug Addiction Recovery Month. I call upon the people of the United States to observe this month with appropriate programs, ceremonies, and activities.

IN WITNESS WHEREOF, I have hereunto set my hand this thirtieth day of August, in the year of our Lord two thousand thirteen, and of the Independence of the United States of America the two hundred and thirty-eighth.

[FR Doc. 2013-21818

Filed 9-5-13; 8:45 am]

Billing code 3295-F3